DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socio-Economic Survey of Hired Captains and Crew in New England and Mid-Atlantic Commercial Fisheries.

OMB Control Number: 0648-0636.

Form Number(s): None.

Type of Request: Regular (reinstatement with changes of a previously approved information collection).

Number of Respondents: 452.

Average Hours per Response: 20 minutes.

Burden Hours: 151.

Needs and Uses: Abstract.

This request is for a reinstatement with change of a previously approved collection.

The NOAA Fisheries, Northeast Fisheries Science Center, Social Science Branch (SSB) seeks to conduct surveys to provide for the ongoing collection of social and economic data related to the fishing industry in the New England and Mid-Atlantic States. The purpose of this survey is to assess the current social and economic conditions of commercial fishing crews for which little is known. The proposed survey is as a follow-up to a baseline study conducted in 2011/2012. The intent of the proposed study is to assess how and why commercial crew working conditions may have changed since the initial 2011/2012 assessment. Data needed for this assessment support fishery performance measures developed by the SSB, which include information on financial viability, distributional outcomes, stewardship, governance, and well-being. Data to be collected include demographic information on crew, wage calculations systems, individual and community well-being, fishing practices, job satisfaction, job opportunities, and attitudes toward fisheries management.

The National Environmental Policy Act (NEPA) and Magnuson-Stevens Conservation and Management Act (MSA) both contain requirements for considering the social and economic impacts of fishery management decisions. There is a need to understand how such fishery management policies and programs will affect the social and economic characteristics of those involved in the commercial fishing industry. To help meet these requirements of NEPA and MSA, the SSB will collect data on an ongoing basis to track how socio-economic characteristics of fisheries are changing over time and the impact of fishery management policies and programs implemented in New England and the Mid-Atlantic regions.

Affected Public: Business or other for-profit organizations.

Frequency: Every three-five years.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 21, 2018.
Sarah Brabson,
NOAA PRA Clearance Officer.

[FR Doc. 2018-11115 Filed 5-23-18; 8:45 am]

BILLING CODE 3510-22-P